DEPARTMENT OF TRANSPORTATION

Federal Aviation Administration

14 CFR Part 39

[Docket No. FAA-2022-1655; Project Identifier MCAI-2022-00887-T; Amendment 39-22423; AD 2023-08-08]

RIN 2120-AA64

Airworthiness Directives; Airbus SAS Airplanes

AGENCY: Federal Aviation Administration (FAA), DOT.

ACTION: Final rule.

SUMMARY: The FAA is adopting a new airworthiness directive (AD) for all Airbus SAS Model A330-201, -202, -203, -301, -302, and -303 airplanes. This AD was prompted by reports of corrosion and cracks found on engine inlet attach fittings. This AD requires an inspection to determine whether affected engine inlet attach fittings are installed, and replacement of those affected engine inlet attach fittings or replacement with and inlet cowl having no affected engine inlet attach fittings, as specified in a European Union Aviation Safety Agency (EASA) AD, which is incorporated by reference. This AD also prohibits the installation of affected parts. The FAA is issuing this AD to address the unsafe condition on these products.

DATES: This AD is effective September 20, 2023.

The Director of the Federal Register approved the incorporation by reference of a certain publication listed in this AD as of September 20, 2023.

ADDRESSES:

AD Docket: You may examine the AD docket at regulations.gov under Docket No. FAA-2022-1655; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material incorporated by reference in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available in the AD docket at regulations.gov under Docket No. FAA-2022-1655.

FOR FURTHER INFORMATION CONTACT: Vladimir Ulyanov, Aerospace Engineer, Large Aircraft Section, FAA, International Validation Branch, 2200 South 216th St., Des Moines, WA 98198; telephone 206-231-3229; email vladimir.ulyanov@faa.gov.

SUPPLEMENTARY INFORMATION:

Background

The FAA issued a notice of proposed rulemaking (NPRM) to amend 14 CFR part 39 by adding an AD that would apply to all Airbus SAS Model A330-201, -202, -203, -301, -302, and -303 airplanes. The NPRM published in the Federal Register on December 28, 2022 (87 FR 79819). The NPRM was prompted by AD 2022-0133, dated July 5, 2022, issued by EASA, which is the Technical Agent for the Member States of the European Union (EASA AD 2022-0133) (also referred to as the MCAI). The MCAI states that findings of corrosion and cracks on engine inlet attach fittings have been reported. It was determined that the affected fittings are susceptible to stress corrosion cracking due to the material used for the fittings. The MCAI notes that stress corrosion cracking, if not detected and corrected, could lead to failure of one or more fittings, possibly resulting in damage to the airplane or injury to occupants.

In the NPRM, the FAA proposed to require an inspection to determine whether affected engine inlet attach fittings are installed, and replacement of those affected engine inlet attach fittings or replacement with an inlet cowl having no affected engine inlet attach fittings, as specified in EASA AD 2022-0133. The NPRM also proposed to prohibit the installation of affected parts. The FAA is issuing this AD to address the unsafe condition on these products.

You may examine the MCAI in the AD docket at regulations.gov under Docket No. FAA-2022-1655.

Discussion of Final Airworthiness Directive

Comments

The FAA received a comment from Air Line Pilots Association, International (ALPA) who supported the NPRM without change.

The FAA received additional comments from two commenters. The following presents the comments received on the NPRM and the FAA's response to each comment.

Request for Exclusion of Certain Accomplishment Instruction Steps

Delta requested revising paragraph (h) of the proposed AD to clarify that the access and close instructions in service information referenced by EASA AD 2022-0133 are not required. Delta stated that no guidance is provided indicating that the access and close instructions can be either done using airline best practices, or omitted in the case that the instructions have been accomplished previously.

The FAA disagrees. The FAA has reviewed the instructions and determined that the instructions are adequate and can be performed in conjunction with other maintenance actions. The access and close instructions are to open and close the fan cowl doors, install the inlet, make sure the work area is clean and clear of tools, and an inspection report. As specified in paragraph (i) of this AD, the inspection report specified in the closing actions is not required. If the requirements of the AD, including access and close, have been accomplished previously, paragraph (f) of this AD provides relief for actions already done. For methods other than those required by the AD, operators may request an alternative method of compliance (AMOC) under the provisions of paragraph (j)(1) of this AD.

Request for a Reporting Requirement

One commenter requested revising paragraph (i) of the proposed AD to require submitting an inspection report to the manufacturer. The commenter states the change would align with the EASA AD and that the wide-body design of the affected 11 U.S.-registered airplanes is duplicated or modified by Airbus in newer designs. The commenter also states the information would assist in avoiding these issue in the future.

The FAA disagrees. EASA AD 2022-0133 does not require reporting; however, the Airbus service information referenced by EASA 2022-0133 does specify an inspection report. The FAA does not consider it necessary to require an inspection report because the unsafe condition has been clearly determined and the corrective actions are defined. However, submitting an inspection report is not prohibited, and any operator may do so voluntarily. The AD has not been changed in this regard.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, this AD is adopted as proposed in the NPRM. None of the changes will increase the economic burden on any operator.

Related Service Information Under 1 CFR Part 51

EASA AD 2022-0133 specifies procedures for an inspection to determine whether affected engine inlet attach fittings (those having certain part numbers and made of aluminum alloy 7175-T66 or 7075-T6) are installed, and replacement of those affected engine inlet attach fittings with serviceable parts or replacement with an inlet cowl having no affected engine inlet attach fittings. EASA AD 2022-0133 also prohibits the installation of affected parts. This material is reasonably available because the interested parties have access to it through their normal course of business or by the means identified in the ADDRESSES section.

Costs of Compliance

The FAA estimates that this AD will affect 11 airplanes of U.S. registry. The FAA estimates the following costs to comply with this AD:

Estimated Costs for Required Actions
Labor cost | Parts cost | Cost per product | Cost on U.S. operators
5 work-hours × $85 per hour = $425 | None | $425 | $4,675

The FAA estimates the following costs to do any necessary on-condition action that would be required based on the results of any required actions. The FAA has no way of determining the number of aircraft that might need this on-condition action:

Estimated Costs of On-Condition Actions
Labor cost | Parts cost | Cost per product
210 work-hours × $85 per hour = up to $17,850 per nacelle | Up to $10,136 | Up to $27,986 per nacelle.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-08-08 Airbus SAS: Amendment 39-22423; Docket No. FAA-2022-1655; Project Identifier MCAI-2022-00887-T.

(a) Effective Date

This airworthiness directive (AD) is effective September 20, 2023.

(b) Affected ADs

None.

(c) Applicability

This AD applies to all Airbus SAS Model A330-201, -202, -203, -301, -302, and -303 airplanes, certificated in any category.

(d) Subject

Air Transport Association (ATA) of America Code 71, Powerplant.

(e) Unsafe Condition

This AD was prompted by reports of corrosion and cracks found on engine inlet attach fittings. The FAA is issuing this AD to detect and correct stress corrosion cracking. The unsafe condition, if not addressed, could result in failure of one or more fittings, possibly resulting in damage to the airplane or injury to occupants.

(f) Compliance

Comply with this AD within the compliance times specified, unless already done.

(g) Requirements

Except as specified in paragraphs (h) and (i) of this AD: Comply with all required actions and compliance times specified in, and in accordance with, European Union Aviation Safety Agency (EASA) AD 2022-0133, dated July 5, 2022.

(h) Exceptions to EASA AD 2022-0133

(1) Where EASA AD 2022-0133 refers to its effective date, this AD requires using the effective date of this AD.

(2) The “Remarks” section of EASA AD 2022-0133 does not apply to this AD.

(i) No Reporting Requirement

Although the service information referenced in EASA AD 2022-0133 specifies to submit certain information to the manufacturer, this AD does not include that requirement.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraphs (i) and (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Additional Information

For more information about this AD, contact Vladimir Ulyanov, Aerospace Engineer, Large Aircraft Section, FAA, International Validation Branch, 2200 South 216th St., Des Moines, WA 98198; telephone 206-231-3229; email vladimir.ulyanov@faa.gov.

(l) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2022-0133, dated July 5, 2022.

(ii) [Reserved]

(3) For EASA AD 2022-0133, contact EASA, Konrad-Adenauer-Ufer 3, 50668 Cologne, Germany; telephone +49 221 8999 000; email ADs@easa.europa.eu; website easa.europa.eu. You may find this EASA AD on the EASA website at ad.easa.europa.eu.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: www.archives.gov/federal-register/cfr/ibr-locations.html.

Issued on April 20, 2023.
Christina Underwood,
Acting Director, Compliance & Airworthiness Division, Aircraft Certification Service.

[FR Doc. 2023-17501 Filed 8-15-23; 8:45 am]

BILLING CODE 4910-13-P